DEPARTMENT OF THE INTERIOR

Fish and Wildlife Service

[FWS-R8-ES-2020-N080; FXES11140800000-201-FF08EVEN00]

Draft Habitat Conservation Plan and Draft Categorical Exclusion for the Singh Parcel, Los Osos, San Luis Obispo County, California

AGENCY: Fish and Wildlife Service, Interior.

ACTION: Notice of availability; request for comments.

SUMMARY: We, the U.S. Fish and Wildlife Service (Service), announce the availability of a draft Habitat Conservation Plan (HCP) and draft categorical exclusion for activities described in an application for an incidental take permit (ITP) under the Endangered Species Act of 1973, as amended. The ITP would authorize take of a listed species incidental to construction of a single-family residence. The applicant developed the draft HCP in support of their application for an ITP. The Service prepared a draft categorical exclusion in accordance with the National Environmental Policy Act to evaluate the potential effects to the natural and human environment resulting from issuing an ITP to the applicant. We invite public comment on these documents.

DATES: Written comments should be received on or before July 16, 2020.

ADDRESSES: To obtain documents: You may download a copy of the draft HCP and categorical exclusion screening form at http://www.fws.gov/ventura/, available in “Latest News Stories” under the “News Room” tab, or you may request copies of the documents by sending U.S. mail to our Ventura office, or by phone (see FOR FURTHER INFORMATION CONTACT).

To submit written comments: Please send us your written comments using one of the following methods:

• U.S. mail: Stephen P. Henry, Field Supervisor, Ventura Fish and Wildlife Office, U.S. Fish and Wildlife Service, 2493 Portola Road, Suite B, Ventura, CA 93003.

• Email: amrita_duggal@fws.gov.

FOR FURTHER INFORMATION CONTACT: Amrita Duggal, Biologist, by email at amrita_duggal@fws.gov, by phone at 805-677-3346, or via the Federal Relay Service at 1-800-877-8339 for TTY assistance.

SUPPLEMENTARY INFORMATION: We, the U.S. Fish and Wildlife Service (Service), announce the availability of a draft habitat conservation plan (HCP) and the associated draft categorical exclusion with an application for an incidental take permit (ITP) from Stephanie Singh (applicant). The permit would authorize take of the federally endangered Morro shoulderband snail (Helminthoglypta walkeriana) incidental to activities described in the HCP for the construction of a single-family residence in Los Osos, San Luis Obispo County, California. The applicant developed a draft HCP as part of her application for an ITP under section 10(a)(1)(B) of the Endangered Species Act of 1973, as amended (ESA; 16 U.S.C. 1531 et seq.). The Service prepared a draft categorical exclusion in accordance with the National Environmental Policy Act of 1969 (NEPA; 42 U.S.C. 4321 et seq.) to evaluate the potential effects to the natural and human environment resulting from issuing an ITP to the applicant. We invite public comment on these documents.

Background

The Morro shoulderband snail was listed as endangered on December 15, 1994 (59 FR 64613). Section 9 of the ESA prohibits the “take” of fish or wildlife species listed as endangered. “Take” is defined under the ESA to include the following activities: “to harass, harm, pursue, hunt, shoot, wound, kill, trap, capture, or collect, or to attempt to engage in any such conduct” (16 U.S.C. 1532); however, under section 10(a)(1)(B) of the ESA, we may issue permits to authorize incidental take of listed species. Incidental take is take that is incidental to, and not the purpose of, carrying out of an otherwise lawful activity. Issuance of an ITP also must not jeopardize the existence of federally listed fish, wildlife, or plant species, pursuant to Section 7 of the ESA and 50 CFR 402.02. The permittee would receive assurances under our “No Surprises” regulations (50 CFR 17.22(b)(5)).

Applicant's Proposed Activities

The applicant has applied for a permit for incidental take of the Morro shoulderband snail. The take would occur in association with the construction of a single-family home and associated activities, such as vegetation removal, site grubbing, and grading for proposed development. The proposed development, including the home, infrastructure, future detached workshop and all associated disturbance areas, would be sited on approximately 0.56 acre (ac) of the 4.7-ac property. To mitigate the effects of the taking of Morro shoulderband snail, the applicant proposes to set aside 2 ac of the 4.7-ac property under a conservation easement that would be dedicated, in perpetuity, to the County of San Luis Obispo.

The HCP includes avoidance and minimization measures for the Morro shoulderband snail and mitigation for unavoidable loss of habitat. The applicant's conservation strategy includes an on-site conservation area that will be restored to coastal dune scrub habitat suitable for occupation by Morro shoulderband snail through removal of non-native plants, natural regeneration of native coastal scrub species, and seeding with native species characteristic of coastal dune scrub habitat.

Pursuant to the categorical exclusion determination, FWS concludes that neither the permit nor the Federal action is anticipated to significantly affect the quality of the human environment, due to the small size of the proposed project located within an existing residential neighborhood.

Public Comments

If you wish to comment on the draft HCP and low-effect ITP screening form, you may submit comments by one of the methods in ADDRESSES.

Before including your address, phone number, email address, or other personal identifying information in your comment, you should be aware that your entire comment, including your personal identifying information, may be made publicly available at any time. While you can ask us in your comment to withhold your personal identifying information from public view, we cannot guarantee that we will be able to do so.

Authority

We provide this notice under section 10 of the ESA (16 U.S.C. 1531 et seq.) and NEPA regulations (40 CFR 1506.6).

Stephen Henry,
Field Supervisor, Ventura Fish and Wildlife Office, Ventura, California.

[FR Doc. 2020-12929 Filed 6-15-20; 8:45 am]

BILLING CODE 4333-15-P